DEPARTMENT OF COMMERCE

International Trade Administration

A-570-910

Notice of Final Determination of Sales at Less Than Fair Value and Affirmative Final Determination of Critical Circumstances: Circular Welded Carbon Quality Steel Pipe from the People's Republic of China

AGENCY: Import Administration, International Trade Administration, Department of Commerce.

EFFECTIVE DATE: June 5, 2008.

SUMMARY: The Department of Commerce (“the Department”) has determined that circular welded carbon quality steel pipe (“CWP”) from the People's Republic of China (“PRC”) is being, or is likely to be, sold in the United States at less than fair value (“LTFV”) as provided in section 735 of the Tariff Act of 1930, as amended (“the Act”). The final dumping margins for this investigation are listed in the “Final Determination Margins” section below.

FOR FURTHER INFORMATION CONTACT: Thomas Martin or Maisha Cryor, Import Administration, International Trade Administration, U.S. Department of Commerce, 14th Street and Constitution Avenue, NW, Washington, DC 20230; telephone: (202) 482-3936 or (202) 482-5831, respectively.

SUPPLEMENTARY INFORMATION:

Case History

On January 15, 2008, the Department published in the Federal Register its preliminary determination that CWP from PRC is being, or is likely to be, sold in the United States at LTFV, as provided in the Act. See Circular Welded Carbon Quality Steel Pipe from the People's Republic of China: Notice of Preliminary Determination of Sales at Less Than Fair Value and Postponement of Final Determination, 73 FR 2445, 2451 (January 15, 2008) (“Preliminary Determination”). For the Preliminary Determination, the Department calculated a zero percent dumping margin for Jiangsu Yulong Steel Pipe Co., Ltd. (“Yulong”). On March 12, 2008, Petitioners,¹ mandatory respondent Yulong, separate rate applicants Weifang East Steel Pipe Co., Ltd., Tianjin Baloai International Trade Co., Ltd., Shijiazhuang Zhongqing Import and Export Co., Ltd., and Shandong Fubo Group Co. (collectively, “Weifang East Pipe”), and two U.S. importers of subject merchandise, SeAH Steel America, Ltd. (“SeAH”) and Western International Forest Products, LLC (“Western”), filed case briefs pursuant to the Preliminary Determination.² On March 20, 2008, Petitioners, Yulong, and one U.S. importer, MAN Ferrostaal Inc., Commercial Metals Company, and QT Trading LP (collectively, “MAN Ferrostaal”), filed rebuttal briefs.³ On March 24, 2008, the Department held a public hearing. Subsequent to the submission of briefs and the hearing, the Department received an allegation that a PRC pipe company involved in the investigation submitted falsified documents to the Department. Following the Department's request for comments on this allegation, on April 7, 2008, Yulong withdrew from the investigation and stated that it did not contest the allegation. See Amended Preliminary Determination of Sales at Less Than Fair Value: Circular Welded Carbon Quality Steel Pipe from the People's Republic of China, 73 FR 22130, 22131 (April 24, 2008) (“Amended Preliminary Determination”) In light of Yulong's withdrawal from the investigation, on April 24, 2008, the Department published its Amended Preliminary Determination, in which the Department applied total adverse facts available (“AFA”) to Yulong and denied Yulong a separate rate, treating it as part of the PRC-wide entity. In addition, the Department assigned a new rate to the PRC-wide entity and provided parties with the opportunity to submit a second set of case briefs and rebuttal briefs. On April 28, 2008, Weifang East Pipe submitted a case brief pursuant to the Amended Preliminary Determination.⁴ On April 30, 2008, Petitioners submitted a rebuttal brief in response to Weifang East Pipe's April Case Brief.⁵

¹ Petitioners in this investigation are Allied Tube & Conduit, Sharon Tube Company, IPSCO Tubulars, Inc., Western Tube & Conduit Corporation, Northwest Pipe Company, Wheatland Tube Co., i.e., the Ad Hoc Coalition For Fair Pipe Imports From China, and the United Steelworkers.

² Petitioners' March 12, 2008, case brief is hereinafter referred to as the “Petitioners' March Case Brief.” The Yulong March 12, 2008, case brief is hereinafter referred to as the “Yulong March Case Brief.” The Weifang East Pipe March 12, 2008, case brief is hereinafter referred to as the “Weifang East Pipe March Case Brief.” The SeAH March 12, 2008, case brief is hereinafter referred to as the “SeAH March Case Brief.” The Western March 12, 2008, case brief is hereinafter referred to as the “Western March Case Brief.”

³ Petitioners' March 20, 2008, rebuttal brief is hereinafter referred to as the “Petitioners' March Rebuttal Brief.” The Yulong March 20, 2008, rebuttal brief is hereinafter referred to as the “Yulong March Rebuttal Brief.” The MAN Ferrostaal March 20, 2008, rebuttal brief is hereinafter referred to as the “MAN Ferrostaal March Rebuttal Brief.”

⁴ The Weifang East Pipe April 28, 2008, case brief is hereinafter referred to as the “Weifang East Pipe April Case Brief.”

⁵ Petitioners' April 30, 2008, rebuttal brief is hereinafter referred to as the “Petitioners' April Rebuttal Brief.”

Analysis of Comments Received

All issues raised in the case and rebuttal briefs by the parties to this investigation are addressed in the “Issues and Decision Memorandum for the Final Determination of Sales at Less than Fair Value: Circular Welded Carbon Quality Steel Pipe from the People's Republic of China,” dated concurrently with this notice, which is hereby adopted by this notice in its entirety (“Issues and Decision Memorandum”). A list of the issues which parties raised and to which we respond in the Issues and Decision Memorandum is attached to this notice as an Appendix. The Issues and Decision Memorandum is a public document and is on file in the Central Records Unit (“CRU”), Main Commerce Building, Room 1117, and is accessible on the Web at http://www.trade.gov/ia. The paper copy and electronic version of the memorandum are identical in content.

Period of Investigation

The period of investigation (“POI”) is October 1, 2006, through March 31, 2007.

Changes Since the Amended Preliminary Determination

Based on our analysis of comments received, we have made no changes in our margin calculations since the Department's Amended Preliminary Determination.

Scope of Investigation

The scope of this investigation covers certain welded carbon quality steel pipes and tubes, of circular cross-section, and with an outside diameter of 0.372 inches (9.45 mm) or more, but not more than 16 inches (406.4 mm), whether or not stenciled, regardless of wall thickness, surface finish (e.g., black, galvanized, or painted), end finish (e.g., plain end, beveled end, grooved, threaded, or threaded and coupled), or industry specification (e.g., ASTM, proprietary, or other), generally known as standard pipe and structural pipe (they may also be referred to as circular, structural, or mechanical tubing).

Specifically, the term “carbon quality” includes products in which (a) iron predominates, by weight, over each of the other contained elements; (b) the carbon content is 2 percent or less, by weight; and (c) none of the elements listed below exceeds the quantity, by weight, as indicated:

(i)1.80 percent of manganese;

(ii)2.25 percent of silicon;

(iii)1.00 percent of copper;

(iv)0.50 percent of aluminum;

(v)1.25 percent of chromium;

(vi) 0.30 percent of cobalt;

(vii) 0.40 percent of lead;

(viii) 1.25 percent of nickel;

(ix) 0.30 percent of tungsten;

(x) 0.15 percent of molybdenum;

(xi) 0.10 percent of niobium;

(xii) 0.41 percent of titanium;

(xiii) 0.15 percent of vanadium; or

(xiv) 0.15 percent of zirconium.

Standard pipe is made primarily to American Society for Testing and Materials (“ASTM”) specifications, but can be made to other specifications. Standard pipe is made primarily to ASTM specifications A-53, A-135, and A-795. Structural pipe is made primarily to ASTM specifications A-252 and A-500. Standard and structural pipe may also be produced to proprietary specifications rather than to industry specifications. This is often the case, for example, with fence tubing. Pipe multiple-stenciled to a standard and/or structural specification and to any other specification, such as the American Petroleum Institute (“API”) API-5L specification, is also covered by the scope of this investigation when it meets the physical description set forth above and also has one or more of the following characteristics: is 32 feet in length or less; is less than 2.0 inches (50 mm) in outside diameter; has a galvanized and/or painted surface finish; or has a threaded and/or coupled end finish. (The term “painted” does not include coatings to inhibit rust in transit, such as varnish, but includes coatings such as polyester.)

The scope of this investigation does not include: (a) pipe suitable for use in boilers, superheaters, heat exchangers, condensers, refining furnaces and feedwater heaters, whether or not cold drawn; (b) mechanical tubing, whether or not cold-drawn; (c) finished electrical conduit; (d) finished scaffolding; (e) tube and pipe hollows for redrawing; (f) oil country tubular goods produced to API specifications; and (g) line pipe produced to only API specifications.

The pipe products that are the subject of this investigation are currently classifiable in HTSUS statistical reporting numbers 7306.30.10.00, 7306.30.50.25, 7306.30.50.32, 7306.30.50.40, 7306.30.50.55, 7306.30.50.85, 7306.30.50.90, 7306.50.10.00, 7306.50.50.50, 7306.50.50.70, 7306.19.10.10, 7306.19.10.50, 7306.19.51.10, and 7306.19.51.50. However, the product description, and not the Harmonized Tariff Schedule of the United States (“HTSUS”) classification, is dispositive of whether merchandise imported into the United States falls within the scope of the investigation.

Scope Comments

In its March case brief, Petitioners argued that the Department should revise; 1) the scope of the investigation to be based upon end-use application, and 2) the definition of “painted.” For the reasons discussed in the Issues and Decision Memorandum, we have not revised the scope of the investigation. However, we have revised the definition of the term “painted,” and have updated the scope accordingly. See Issues and Decision Memorandum at Comment 1.

Non-Market Economy Treatment

In the Preliminary Determination and Amended Preliminary Determination, the Department considered the PRC to be a non-market economy (“NME”) country. In accordance with section 771(18)(C)(i) of the Act, any determination that a country is an NME country shall remain in effect until revoked by the administering authority. See Tapered Roller Bearings and Parts Thereof, Finished and Unfinished, From the People's Republic of China: Preliminary Results of 2001-2002 Administrative Review and Partial Rescission of Review, 68 FR 7500 (February 14, 2003), unchanged in Tapered Roller Bearings and Parts Thereof, Finished and Unfinished, from the People's Republic of China: Final Results of 2001-2002 Administrative Review and Partial Rescission of Review, 68 FR 70488 (December 18, 2003). In its March case brief, Weifang East Pipe argued that the PRC should be granted market economy status. See Weifang East Pipe March Case Brief, at 6. For the reasons discussed in the Issues and Decision Memorandum, we disagree with Weifang East Pipe and have continued to treat the PRC as an NME. See Issues and Decision Memorandum at Comment 2.

Separate Rates

In proceedings involving NME countries, the Department begins with a rebuttable presumption that all companies within the country are subject to government control and, thus, should be assigned a single antidumping duty deposit rate. It is the Department's policy to assign all exporters of merchandise subject to an investigation in an NME country this single rate unless an exporter can demonstrate that it is sufficiently independent so as to be entitled to a separate rate. See Final Determination of Sales at Less Than Fair Value: Sparklers from the People's Republic of China, 56 FR 20588 (May 6, 1991) (“Sparklers”), as amplified by Notice of Final Determination of Sales at Less Than Fair Value: Silicon Carbide from the People's Republic of China, 59 FR 22585 (May 2, 1994) (“Silicon Carbide”), and Section 351.107(d) of the Department's regulations.

In the Preliminary Determination, we found that the following separate rate applicants demonstrated their eligibility for separate-rate status: Wai Ming (Tianjin) Int'l Trading Co., Ltd.; Weifang East Steel Pipe Co., Ltd.; Wuxi Fastube Industry Co., Ltd.; Wuxi Eric Steel Pipe Co., Ltd.; Beijing Sai Lin Ke Hardware Co., Ltd.; Wah Cit Enterprises; Guangdong Walsall Steel Pipe Industrial Co., Ltd.; Shijiazhuang Zhongqing Imp & Exp Co., Ltd.; Tianjin Baolai Int'l Trade Co., Ltd.; Dalian Brollo Steel Tubes Ltd.; Benxi Northern Pipes Co., Ltd.; Shanghai Metals & Minerals Import & Export Corp.; Huludao Steel Pipe Industrial Co., Ltd.; Tianjin Xingyuda Import & Export Co. Ltd.; Jiangyin Jianye Metal Products Co., Ltd.; Rizhao Xingye Import & Export Co., Ltd.; Kunshan Hongyuan Machinery Manufacture Co., Ltd.; Tianjin No. 1 Steel Rolled Co., Ltd.; Qingdao Yongjie Import & Export Co., Ltd.; Jiangsu Guoqiang Zinc-Plating Industrial Company, Ltd.; Qingdao Xiangxing Steel Pipe Co., Ltd.; Hengshui Jinghua Steel Pipe Co., Ltd.; Zhangjiagang Zhongyuan Pipe-Making Co., Ltd.; Kunshan Lets Win Steel Machinery Co., Ltd.; and Shenyang BOYU M/E Co., Ltd.

No party has commented on the eligibility of these companies for separate-rate status. For the final determination, we continue to find that the evidence placed on the record of this investigation by these companies demonstrates both a de jure and de facto absence of government control with respect to their respective exports of the merchandise under investigation. Thus, we continue to find that they are eligible for separate-rate status. Normally the separate rate is determined based on the estimated weighted-average dumping margins established for exporters and producers individually investigated, excluding de minimis margins or margins based entirely on AFA. See section 735(c)(5)(A) of the Act. In this case, given the absence of participating respondents and having calculated no margins, we have assigned to the separate rate companies the simple average of the margins alleged in the petition. See Amended Preliminary Determination, 73 FR at 22133.

We determined in the Preliminary Determination that Shandong Fubo Group Co. (“Fubo”) and Tianjin Youcheng Galvanized Steel Pipe Co., Ltd. (“Youcheng”) are not entitled to a separate rate. We received no comments on this denial of separate rates and, for the final determination, continue to find that Fubo and Youcheng are not entitled to a separate rate.

The PRC-Wide Rate

In the Preliminary Determination, the Department found that certain companies did not respond to our requests for information. See Preliminary Determination, 73 FR at 2451. In the Preliminary Determination we treated these PRC producers/exporters as part of the PRC-wide entity because they did not demonstrate that they operate free of government control over their export activities. In addition, in the Amended Preliminary Determination, the Department applied total AFA to Jiangsu Yulong Steel Pipe Co., Ltd. (“Yulong”). We determined, as AFA, that Yulong was not eligible for a separate rate, and, for the final determination, we are treating Yulong as part of the PRC-wide entity. No additional information was placed on the record with respect to any of these companies after the Preliminary Determination or the Amended Preliminary Determination. Therefore, pursuant to section 776(a)(2)(A) of the Act, the Department continues to find that the use of facts available is appropriate to determine the PRC-wide rate.

Section 776(b) of the Act provides that, in selecting from among the facts otherwise available, the Department may employ an adverse inference if an interested party fails to cooperate by not acting to the best of its ability to comply with requests for information. See Notice of Final Determination of Sales at Less Than Fair Value: Certain Cold-Rolled Flat-Rolled Carbon-Quality Steel Products from the Russian Federation, 65 FR 5510, 5518 (February 4, 2000). See also “Statement of Administrative Action” accompanying the URAA, H.R. Rep. No. 103-316, vol. 1, at 870 (1994) (“SAA”). We determined that, because the PRC-wide entity did not respond to our request for information, it has failed to cooperate to the best of its ability. Therefore, the Department finds that, in selecting from among the facts otherwise available, an adverse inference is appropriate for the PRC-wide entity.

Because we begin with the presumption that all companies within a NME country are subject to government control and because only the companies listed under the “Final Determination Margins” section below have overcome that presumption, we are applying a single antidumping rate (i.e., the PRC-wide entity rate) to all other exporters of subject merchandise from the PRC. Such companies did not demonstrate entitlement to a separate rate. See, e.g., Synthetic Indigo from the People's Republic of China: Notice of Final Determination of Sales at Less Than Fair Value, 65 FR 25706 (May 3, 2000). The PRC-wide entity rate applies to all entries of subject merchandise except for entries from the respondents which are listed in the “Final Determination Margins” section below.

In the Amended Preliminary Determination, we assigned to the PRC-wide entity the highest margin alleged in the petition, as revised in Petitioners' supplemental responses, 85.55 percent. See Amended Preliminary Determination, 73 FR at 22133. We received no comments on this rate. Therefore, for the final determination, we have continued to assign to the PRC-wide entity the rate of 85.55 percent.

Corroboration

Section 776(c) of the Act provides that, when the Department relies on secondary information in using the facts otherwise available, it must, to the extent practicable, corroborate that information from independent sources that are reasonably at its disposal. We have interpreted “corroborate” to mean that we will, to the extent practicable, examine the reliability and relevance of the information submitted. See Certain Cold-Rolled Flat-Rolled Carbon-Quality Steel Products From Brazil: Notice of Final Determination of Sales at Less Than Fair Value, 65 FR 5554, 5568 (February 4, 2000); see, e.g., Tapered Roller Bearings and Parts Thereof, Finished and Unfinished, from Japan, and Tapered Roller Bearings, Four Inches or Less in Outside Diameter, and Components Thereof, from Japan; Preliminary Results of Antidumping Duty Administrative Reviews and Partial Termination of Administrative Reviews, 61 FR 57391, 57392 (November 6, 1996).

Because there are no cooperating mandatory respondents, to corroborate the 85.55 percent margin used as adverse facts available for the PRC-wide entity, we relied upon our pre-initiation analysis of the adequacy and accuracy of the information in the petition. See Antidumping Investigation Initiation Checklist: Circular Welded Carbon Quality Steel Pipe from the People's Republic of China, (Initiation Checklist) (“Initiation Checklist”) (July 5, 2007). During the initiation stage, we examined evidence supporting the calculations in the petition and the supplemental information provided by Petitioners to determine the probative value of the margins alleged in the petition. During our pre-initiation analysis, we examined the information used as the basis of export price and NV in the petition, and the calculations used to derive the alleged margins. Also during our pre-initiation analysis, we examined information from various independent sources provided either in the petition or, based on our requests, in supplements to the petition, which corroborated key elements of the export price and NV calculations. Id. We received no comments as to the relevance or probative value of this information. Therefore, for the final determination, the Department finds that the rates derived from the petition for purposes of initiation have probative value for the purpose of being selected as the AFA rate assigned to the PRC-wide entity.

Final Critical Circumstances Determination

On December 11, 2007, the Department preliminarily found that critical circumstances existed for all PRC exporters of subject merchandise, including the separate rate applicant companies and companies subject to the PRC-wide rate. The Department affirmed this preliminary finding in the Preliminary Determination and the Amended Preliminary Determination. Pursuant to the Preliminary Determination, we received comments on this issue from SeAH and Western. See SeAH March Case Brief, at 3; see also Western March Case Brief, at 1. These companies argued that we should no longer find that critical circumstances exist for certain importers that had placed information on the record of the proceeding to support claims that their imports were not part of the “massive” imports found by the Department, pursuant to 19 CFR 351.206. We also received comments from Petitioners, who support the preliminary finding of critical circumstances for all PRC exporters, but who recommend certain modifications to the Department's analysis. See Petitioners' March Rebuttal Brief, at 19.

Based on the comments from interested parties, we have revised our analysis, but continue to find that critical circumstances exist with regard to all imports of CWP from the PRC. For further details, see the Issues and Decision Memorandum at Comments 11-13; see also, Memorandum from Abdelali Elouaradia, Office Director, to Stephen J. Claeys, Deputy Assistant Secretary, “Antidumping Duty Investigation of Circular Welded Carbon Quality Steel Pipe (“CWP”) from the People's Republic of China (“PRC”) - Final Affirmative Determination of Critical Circumstances,” dated May 29, 2008.

Combination Rates

In Initiation of Antidumping Duty Investigation: Circular Welded Carbon Quality Steel Pipe from the People's Republic of China, 72 FR 36663 (July 5, 2007) (“Initiation Notice”), the Department stated that it would calculate combination rates for respondents that are eligible for a separate rate in this investigation. See Initiation Notice. This change in practice is described in Policy Bulletin 05.1, available at http://ia.ita.doc.gov/. Policy Bulletin 05.1, states:

{w}hile continuing the practice of assigning separate rates only to exporters, all separate rates that the Department will now assign in its NME investigations will be specific to those producers that supplied the exporter during the period of investigation. Note, however, that one rate is calculated for the exporter and all of the producers which supplied subject merchandise to it during the period of investigation. This practice applies both to mandatory respondents receiving an individually calculated separate rate as well as the pool of non-investigated firms receiving the weighted-average of the individually calculated rates. This practice is referred to as the application of “combination rates” because such rates apply to specific combinations of exporters and one or more producers. The cash-deposit rate assigned to an exporter will apply only to merchandise both exported by the firm in question and produced by a firm that supplied the exporter during the period of investigation.See Policy Bulletin 05.1, “Separate Rates Practice and Application of Combination Rates in Antidumping Investigations Involving Non-Market Economy Countries.”

Final Determination Margins

We determine that the following percentage weighted-average margins exist for the POI:

Exporter | Producer | Weighted-Average Margin
Beijing Sai Lin Ke Hardware Co., Ltd. | Xuzhou Guang Huan Steel Tube Products Co., Ltd. | 69.20
Wuxi Fastube Industry Co., Ltd. | Wuxi Fastube Industry Co., Ltd. | 69.20
Jiangsu Guoqiang Zinc-Plating Industrial.Co.,Ltd.⁶ | Jiangsu Guoqiang Zinc-Plating Industrial Co., Ltd. | 69.20
Wuxi Eric Steel Pipe Co., Ltd. | Wuxi Eric Steel Pipe Co., Ltd. | 69.20
Qingdao Xiangxing Steel Pipe Co., Ltd. | Qingdao Xiangxing Steel Pipe Co., Ltd. | 69.20
Wah Cit Enterprises | Guangdong Walsall Steel Pipe Industrial Co., Ltd. | 69.20
Guangdong Walsall Steel Pipe Industrial Co., Ltd. | Guangdong Walsall Steel Pipe Industrial Co.,.Ltd. | 69.20
Hengshui Jinghua Steel Pipe Co., Ltd. | Hengshui Jinghua Steel Pipe Co.,Ltd. | 69.20
Zhangjiagang Zhongyuan Pipe-Making Co., Ltd. | Zhangjiagang Zhongyuan Pipe-Making Co, Ltd. | 69.20
Weifang East Steel Pipe Co., Ltd. | Weifang East Steel Pipe Co., Ltd. | 69.20
Shijiazhuang Zhongqing Imp & Exp Co., Ltd. | Bazhou Zhuofa Steel Pipe Co., Ltd. | 69.20
Tianjin Baolai Int'l Trade Co., Ltd. | Tianjin Jinghai County Baolai Business and Industry Co., Ltd. | 69.20
Wai Ming (Tianjin) Int'l Trading Co., Ltd. | Bazhou Dong Sheng Hot-dipped Galvanized Steel Pipes Co., Ltd. | 69.20
Kunshan Lets Win Steel MachineryCo., Ltd. | Kunshan Lets Win Steel Machinery Co., Ltd. | 69.20
Shenyang Boyu M/E Co., Ltd. | Bazhou Dong Sheng Hot-dipped Galvanized Steel Pipes Co., Ltd. | 69.20
Dalian Brollo Steel Tubes Ltd. | Dalian Brollo Steel Tubes Ltd. | 69.20
Benxi Northern Pipes Co., Ltd. | Benxi Northern Pipes Co., Ltd. | 69.20
Shanghai Metals & Minerals Import & Export Corp. | Huludao Steel Pipe Industrial Co. | 69.20
Shanghai Metals & Minerals Import & Export Corp. | Benxi Northern Pipes Co., Ltd. | 69.20
Huludao Steel Pipe Industrial Co. | Huludao Steel Pipe Industrial Co. | 69.20
Tianjin Xingyuda Import & Export Co., Ltd. | Tianjin Lifengyuanda Steel Group | 69.20
Tianjin Xingyuda Import & Export Co., Ltd. | Tianjin Xingyunda Steel Pipe Co. | 69.20
Tianjin Xingyuda Import & Export Co., Ltd. | Tianjin Lituo Steel Products Co. | 69.20
Tianjin Xingyuda Import & Xinlida Export Co., Ltd. | Tangshan Fengnan District Steel Pipe Co., Ltd. | 69.20
Jiangyin Jianye Metal Products Co., Ltd. | Jiangyin Jianye Metal Products Co., Ltd. | 69.20
Rizhao Xingye Import & Export Co., Ltd. | Shandong Xinyuan Group Co., Ltd. | 69.20
Tianjin No. 1 Steel Rolled Co., Ltd. | Tianjin Hexing Steel Co., Ltd. | 69.20
Tianjin No. 1 Steel Rolled Co., Ltd. | Tianjin Ruitong Steel Co., Ltd. | 69.20
Tianjin No. 1 Steel Rolled Co., Ltd. | Tianjin Yayi Industrial Co. | 69.20
Kunshan Hongyuan Machinery Manufacture Co., Ltd. | Kunshan Hongyuan Machinery Manufacture Co., Ltd. | 69.20
Qingdao Yongjie Import & Export Co., Ltd. | Shandong Xinyuan Group Co., Ltd. | 69.20
PRC-Wide Entity⁷ |  | 85.55
⁶ In the Preliminary Determination, the Department incorrectly identified Jiangsu Guoqiang Zinc-Plating Industrial Company, Ltd., as Jiangsu Guoqiang Zinc-Plating Co., Ltd. We note, however, that in the Department's subsequent instructions to CBP to suspend liquidation and require cash deposits for CWP from PRC, the Department correctly identified Jiangsu Guoqiang Zinc-Plating Industrial Company, Ltd.
⁷ In the Preliminary Determination, the Department found that the Tianjin Shuangjie Group is part of the PRC-wide entity. In the Amended Preliminary Determination, the Department found that Yulong is part of the PRC-wide entity.

Disclosure

We will disclose the calculations performed within five days of the date of publication of this notice to parties in this proceeding in accordance with 19 CFR 351.224(b).

Continuation of Suspension of Liquidation

In accordance with section 735(c)(1)(B) of the Act, we are directing U.S. Customs and Border Protection (“CBP”) to continue to suspend liquidation of all imports of subject merchandise as described in the “Scope of Investigation” section, that are entered or withdrawn from warehouse, for consumption on or after October 17, 2007, which is 90 days prior to the date of publication of the preliminary determination in the Federal Register, except for imports from Yulong. In specific regard to Yulong, we are directing CBP to continue to suspend liquidation of all entries of subject merchandise as described in the “Scope of Investigation” section, entered, or withdrawn from warehouse, for consumption on or after January 25, 2008, which is 90 days prior to the date of publication of the amended preliminary determination in the Federal Register. See Amended Preliminary Determination. We will instruct CBP to continue to require a cash deposit or the posting of a bond for all companies based on the estimated weighted-average dumping margins shown above. The suspension of liquidation instructions will remain in effect until further notice.

International Trade Commission Notification

In accordance with section 735(d) of the Act, we have notified the International Trade Commission (“ITC”) of our final determination of sales at LTFV. As our final determination is affirmative, in accordance with section 735(b)(2) of the Act, within 45 days the ITC will determine whether the domestic industry in the United States is materially injured, or threatened with material injury, by reason of imports or sales (or the likelihood of sales) for importation of the subject merchandise. If the ITC determines that material injury or threat of material injury does not exist, the proceeding will be terminated and all securities posted will be refunded or canceled. If the ITC determines that such injury does exist, the Department will issue an antidumping duty order directing CBP to assess, upon further instruction by the Department, antidumping duties on all imports of the subject merchandise entered, or withdrawn from warehouse, for consumption on or after the effective date of the suspension of liquidation.

Notification Regarding APO

This notice also serves as a reminder to the parties subject to administrative protective order (“APO”) of their responsibility concerning the disposition of proprietary information disclosed under APO in accordance with 19 CFR 351.305. Timely notification of return or destruction of APO materials or conversion to judicial protective order is hereby requested. Failure to comply with the regulations and the terms of an APO is a sanctionable violation.

This determination is issued and published in accordance with sections 735(d) and 777(i)(1) of the Act.

Dated: May 29, 2008.
David M. Spooner,
Assistant Secretary for Import Administration.

Appendix

Comment 1: Whether the Scope Language Should Include End-Use Definition and Reference to End-Use Applications

Comment 2: Whether the Department Should Graduate the People's Republic of China to Market Economy Status

Comment 3: Whether the Department Should Calculate a Company-Specific Separate Rate for Weifang East Pipe

Comment 4: Whether the Department Should Find Weifang East Pipe to be a Market-Oriented Enterprise

Comment 5: Whether the Department Should Utilize Weifang East Pipe's Actual Hot-Rolled Costs When Calculating an AD Margin Due to the Existence of the Companion Countervailing Duty Investigation

Comment 6: Whether a Double-Remedy Results from the Simultaneous Application of Non-Market Economy AD and Countervailing Duty Methodologies

Comment 7: Whether the Department's Amended Preliminary Determination Violated Legal Principles

Comment 8: Whether the Department Should Employ Weifang East Pipe's Suggested Analytical Approach For Calculating Its Company-Specific Margin

Comment 9: Whether the Department Should Assign Weifang East Pipe's Company-Specific AD Rate to All Cooperative Separate Rate Respondents

Comment 10: Whether the Department Should Make an Adjustment for Countervailable Export Subsidies

Comment 11: Whether the Department Should Use the Highest Petition Margin as the Adverse Facts Available Rate

Comment 12: Whether the Department Should Find That Critical Circumstances Do Not Exist for Yulong

Comment 13: Whether the Department Should Analyze Critical Circumstances on an Importer-Specific Basis in its Critical Circumstances Analysis

Comment 14: Whether the Department Should Include June 2007 in the Base Period Rather than the Comparison Period in its Critical Circumstances Analysis

[FR Doc. E8-12608 Filed 6-4-08; 8:45 am]

Billing Code: 3510-DS-S